SOCIAL SECURITY ADMINISTRATION

[Docket No. SSA-2020-0061]

Interventional Cooperative Agreement Program

AGENCY: Social Security Administration (SSA).

ACTION: Announcement of new funding opportunity, the Interventional Cooperative Agreement Program.

SUMMARY: We are announcing a new funding opportunity, the Interventional Cooperative Agreement Program (ICAP). The purpose of this new program is to allow us to enter into cooperative agreements to collaborate with States, private foundations, and other non-Federal groups and organizations who have the interest and ability to identify, operate, and partially fund interventional research. The Request for Applications is now open on Grants.gov.

FOR FURTHER INFORMATION CONTACT: Dionne Mitchell, Grant Officer, Office of Acquisition and Grants, Social Security Administration, 6401 Security Boulevard, Baltimore, Maryland 21235-6401, (410) 965-9534, Grants.Team@ssa.gov (indicate “ICAP Inquiry” in subject line). For information on eligibility or filing for benefits, call our national toll-free number, 1-800-325-0778, or visit our internet site, Social Security Online, at http://www.socialsecurity.gov.

SUPPLEMENTARY INFORMATION: ICAP will provide a process through which we can systematically review proposals from outside organizations (including States, private foundations, and other non-Federal groups and organizations) and enter into cooperative agreements with them for collaboration on interventional research. We hope to tap local, external knowledge about potential interventions relevant to beneficiaries who receive Social Security Disability Insurance (SSDI) benefits or recipients of Supplemental Security Income (SSI). ICAP research topics are as follows:

• Examining the structural barriers in the labor market, including for racial, ethnic, or other underserved communities, including people with disabilities, that increase the likelihood of people receiving or applying for SSDI or SSI benefits;

• Promoting self-sufficiency by helping people enter, stay in, or return to the labor force, including children and youth;

• Coordinating planning between private and human services agencies to improve the administration and effectiveness of the SSDI, SSI, and related programs;

• Assisting claimants in underserved communities apply for or appeal determinations or decisions on claims for SSDI and SSI benefits; and

• Conducting outreach to children with disabilities who are potentially eligible to receive SSI, and conducting outreach to their parents and guardians.

For more information, please see the Request for Applications for funding opportunity ICAP-ICA-21-001 on Grants.gov.

The Commissioner of Social Security, Andrew Saul, having reviewed and approved this document, is delegating the authority to electronically sign this document to Faye I. Lipsky, who is the primary Federal Register Liaison for SSA, for purposes of publication in the Federal Register.

Faye I. Lipsky,
Federal Register Liaison, Office of Legislation and Congressional Affairs, Social Security Administration.

[FR Doc. 2021-09521 Filed 5-5-21; 8:45 am]

BILLING CODE 4191-02-P